DEPARTMENT OF THE INTERIOR

Fish and Wildlife Service

[FWS-R2-ES-2017-N082; FXES11130200000-178-FF02ENEH00]

U.S. Endangered Species; Recovery Permit Applications

AGENCY: Fish and Wildlife Service, Interior.

ACTION: Notice of receipt of permit applications; request for comments.

SUMMARY: We, the U.S. Fish and Wildlife Service, invite the public to comment on the following applications for a permit to conduct activities intended to recover and enhance the survival of endangered species. With some exceptions, the Endangered Species Act of 1973, as amended (ESA), prohibits certain activities that may impact endangered species unless a Federal permit allows such activity. The ESA also requires that we invite public comment before issuing these permits.

DATES: To ensure consideration, please send your written comments by September 21, 2017.

ADDRESSES: Request documents or submit comments to Susan Jacobsen, Chief, Division of Classification and Restoration, by U.S. mail at Division of Classification and Recovery, U.S. Fish and Wildlife Service, P.O. Box 1306, Albuquerque, NM 87103. Please specify the permit you are interested in by number (e.g., Permit No. TE-123456).

FOR FURTHER INFORMATION CONTACT: Susan Jacobsen, Chief, Division of Classification and Restoration, by U.S. mail at P.O. Box 1306, Albuquerque, NM 87103; or by telephone at 505-248-6641.

SUPPLEMENTARY INFORMATION: We, the U.S. Fish and Wildlife Service, invite the public to comment on the following applications for a permit to conduct activities intended to recover and enhance the survival of endangered species. With some exceptions, the Endangered Species Act of 1973, as amended (16 U.S.C. 1531 et seq.; ESA), prohibits certain activities that may impact endangered species, unless a Federal permit allows such activity. The ESA also requires that we invite public comment before issuing these permits.

Background

The ESA prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered or threatened species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

In accordance with section 10(c) of the ESA; Executive Order 13576, “Delivering an Efficient, Effective, and Accountable Government”; and the President's Memorandum for the Heads of Executive Departments and Agencies of January 21, 2009, “Transparency and Open Government” (74 FR 4685; January 26, 2009), all of which call on Federal agencies to promote openness and transparency in Government by disclosing information to the public, we invite public comment on these permit applications before final action is taken.

Applications Available for Review and Comment

We invite local, State, Tribal, and Federal agencies and the public to comment on the following applications. Please refer to the permit number for the application when submitting comments.

Documents and other information submitted with these applications are available for review by any party who submits a written request to the Program Manager for Restoration and Endangered Species Classification at the address listed in the ADDRESSES section. Requests must be submitted within 30 days of the date of publication of this notice. Release of documents is subject to the requirements of the Privacy Act (5 U.S.C. 552a) and the Freedom of Information Act (5 U.S.C. 552).

Permit Applications

Proposed activities in the following permit requests are for the recovery and enhancement of survival of the species.

Application No. | Applicant | Species | Location | Activity | Type of take | Permit action
TE-22964C | Memphis Zoo, Memphis, Tennessee | Houston toad (Bufo houstonensis) | Tennessee | Captive propagation and genetic research | Harm and harass | New.
TE-25105C | Heidi Kloeppel Trathnigg, Flagstaff, Arizona | Southwestern willow flycatcher (Empidonax traillii extimus) | Arizona | Presence/absence surveys | Harass | New.
TE-829761 | Bureau of Land Management, Las Cruces, New Mexico | Gila chub (Gila intermedia) | New Mexico | Presence/absence surveys | Capture and harass | Amend.
TE-216075 | Martin R. Heaney, Rosenberg, Texas | Pink mucket (Lampsilis abrupta) and winged mapleleaf (Quadrula fragosa) | Arkansas | Presence/absence surveys | Capture and harass | Amend.
TE-048464 | Joanne M. Roberts, Hereford, Arizona | Lesser long-nosed bat (Leptonycteris curasoae yerbabuenae), southwestern willow flycatcher (Empidonax traillii extimus), and Lilaeopsis schaffneriana var. recurva (Huachuca water umbel) | Arizona | Presence/absence surveys | Capture, harm, and harass | Amend and Renew.
TE-29890C | Matrix Consulting NM, Albuquerque, New Mexico | Southwestern willow flycatcher (Empidonax traillii extimus) | Arizona, Colorado, New Mexico, Texas, and Utah | Presence/absence surveys | Harass | New.
TE-794593 | Texas State Aquarium, Corpus Christi, Texas | Masked bobwhite quail (Colinus virginianus ridgwayi) | Texas | Enhancement of propagation or survival of species | None | Amend.
TE-232639 | DESCO Environmental Consultants, LP, Magnolia, Texas | American burying beetle (Nicrophorus americanus) | Oklahoma and Texas | Presence/absence surveys | Capture and harass | Amend.
TE-21840C | Wildwood Environmental Credit Company, Tyler, Texas | Gray bat (Myotis grisescens), Indiana bat (Myotis sodalis), Ozark big-eared bat (Corynorhinus (=plecotus) townsendii ingens), and Virginia big-eared bat (Corynorhinus (=plecotus) townsendii virginianus) | Arkansas, Louisiana, North Carolina, Oklahoma, Tennessee, and Texas | Presence/absence surveys | Capture, harm, and harass | New.
TE-72079A | John N. Rinne, Flagstaff, Arizona | Loach minnow (Tiaroga cobitis), and spikedace (Meda fulgida) | New Mexico | Presence/absence surveys | Capture, harm, and harass | Renew.
TE-32832C | U.S. Fish and Wildlife Service—Buenos Aires National Wildlife Refuge, Sasabe, Arizona | Masked bobwhite (Colinus virginianus ridgwayi) | Arizona | Captive propagation, research, and reintroduction | Capture, harm, and harass | New.
TE-32916C | G.M. Sutton Avian Research Center | Masked bobwhite (Colinus virginianus ridgwayi) | Oklahoma | Captive breeding, and subsequent tracking and monitoring of released birds | Capture, harm, and harass | New.
TE-32917C | Ashley M. Long | Golden-cheeked warbler (Setophaga chrysoparia), Black-capped vireo (Vireo atricapilla) | Texas | Presence/absence surveys, mist netting and banding, use of geolocators and radiotrackers | Capture, harm, and harass | New.
TE-40886B | Jennifer Zahratka, Durango, Colorado | New Mexico meadow jumping mouse (Zapus hudsonius luteus) | Colorado, New Mexico | Radio-collaring and collecting tissue samples to confirm taxonomic identification with genetic analysis | Capture, harm, and harass | Amend.
TE43754A | Turner Endangered Species Fund, Bozeman, Montana | Chupadera springsnail (Pyrgulopsis chupaderae) | New Mexico | Monitor, survey, handle, and collect | Capture, harm, and harass. | Amend.
TE34460C | Grouse Mountain Environmental Consultants, Santa Fe, New Mexico | Southwestern willow flycatcher (Empidonax traillii extimus) | Arizona, Colorado, New Mexico, Texas, Utah, Wyoming | Presence/absence surveys | Harm and harass | New.
TE35802C | Geodata Crawler Research Institute, Fort Smith, Arkansas | American burying beetle (Nicrophorus americanus) | Arkansas, Kansas, Nebraska, Oklahoma, South Dakota, Texas | Presence/absence surveys | Harm and harass | New.
TE00479C | Kevin Johnson, Oklahoma City, Oklahoma | American burying beetle (Nicrophorus americanus), Red cockaded woodpecker (Picoides borealis) | Alabama, Arkansas, Florida, Georgia, Kentucky, Louisiana, Mississippi, Nebraska, North Carolina, Ohio, Oklahoma, South Carolina, South Dakota, Tennessee, Texas, Virginia | Presence/absence surveys | Harm and harass | New.

Public Availability of Comments

All comments and materials we receive in response to these requests will be available for public inspection, by appointment, during normal business hours at the address listed in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: June 7, 2017.
Benjamin N. Tuggle,
Regional Director, U.S. Fish and Wildlife Service.

[FR Doc. 2017-17710 Filed 8-21-17; 8:45 am]

BILLING CODE 4333-15-P